ENVIRONMENTAL PROTECTION AGENCY

40 CFR Part 300

[FRL-7003-5]

National Oil and Hazardous Substances Pollution Contingency Plan; National Priorities List

AGENCY: Environmental Protection Agency (EPA).

ACTION: Proposed rule.

SUMMARY: The Environmental Protection Agency (EPA) Region VIII proposes to delete the residential soil portions of the Jacobs Smelter Superfund Site, Utah, known as Operable Unit One (OU1), from the National Priorities List and requests public comment on this action. The NPL constitutes Appendix B to the National Oil and Hazardous Substances Pollution Contingency Plan (NCP), 40 CFR Part 300, which EPA promulgated pursuant to Section 105 of the Comprehensive Environmental Response, Compensation, and Liability Act (CERCLA). This action is being taken because EPA, with concurrence from the Utah Department of Environmental Quality (UDEQ), has determined that all appropriate response actions have been taken and that no further response at OU1 is appropriate.

A detailed rationale for this Proposal to Delete is set forth in the direct final rule which can be found in the Rules and Regulations section of this Federal Register. The direct final rule is being published because EPA views this deletion action as a noncontroversial revision and anticipates no significant adverse or critical comments. If no significant adverse or critical comments are received, no further activity is contemplated. If EPA receives significant adverse or critical comments, the direct final rule will be withdrawn and all public comments received will be addressed in a subsequent final rule based on this proposed rule. EPA will not institute a second comment period. Any parties interested in commenting should do so at this time.

DATES: Comments concerning this action must be received by EPA on or before August 6, 2001.

ADDRESSES: Comments may be mailed to: Mr. Jim Christiansen, Remedial Project Manager, U.S. EPA Region VIII, EPR-SR, 999 18th Street, Suite 300, Denver, CO 80202, (303) 312-6748. Email: christiansen.jim@epa.gov.

Information Repositories: Comprehensive information on the Jacobs Smelter Site as well as information specific to this proposed partial deletion is available for review at EPA's Region VIII office in Denver, Colorado. The Administrative Record for OU1 and the Deletion Docket for this partial deletion are maintained at the following information repositories:U.S. EPA Region VIII, Superfund Records Center, 5th Floor, 999 18th Street, Denver, Colorado, 80202, (303) 312-6473, Hours of Operation: M-F 8:00 a.m. to 4:30 p.m. Tooele County Library, 100 West Vine Street, Tooele, Utah, 84074.

FOR FURTHER INFORMATION CONTACT: Mr. Jim Christiansen, Remedial Project Manager, U.S. EPA Region VIII, EPR-SR, 999 18th Street, Suite 300, Denver, CO 80202, (303) 312-6748. Email: christiansen.jim@epa.gov.

SUPPLEMENTARY INFORMATION: For additional information, see the direct final rule which is located in the Rules and Regulations section of this Federal Register.

Authority: 33 U.S.C. 1312(c)(2); 42 U.S.C. 9601-9657, E.O. 12777, 56 FR 54757, 3 CFR, 1991 Comp., p. 351, E.O. 12580, 52 FR 2923; 3 CFR 1987 Comp., p. 193.

Dated: June 15, 2001.
Patricia D. Hull,
Acting Regional Administrator, U.S. Environmental Protection Agency, Region VIII.

[FR Doc. 01-16435 Filed 7-3-01; 8:45 am]

BILLING CODE 6560-50-P